SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before April 14, 2003.

ADDRESSES: Send all comments regarding whether this information collections is necessary for the proper performance of the function of the agency, whether the burden estimates are accurate, and if there are ways to minimize the estimated burden and enhance the quality of the collections, to Margie Rich, Financial Analyst, Office of Financial Assistance, Small Business Administration, 409 3rd Street, SW., Suite 8300, Washington DC 20416

FOR FURTHER INFORMATION CONTACT: Margie Rich, Financial Analyst, (202) 205-7512 or Curtis B. Rich, Management Analyst, (202) 205-7030.

SUPPLEMENTARY INFORMATION: Title: Microloan Program Electronic Reporting System (MPERS).

Form No: N/A.

Description of Respondents: Microloan Program Intermediary Lenders

Annual Responses: 2600.

Annual Burden: 107.

Jacqueline White,
Chief, Administrative Information Branch.

[FR Doc. 03-3388 Filed 2-10-03; 8:45 am]

BILLING CODE 8025-01-P